DEPARTMENT OF ENERGY

Federal Energy Regulatory Commission

Sunshine Act Meeting Notice

The following notice of meeting is published pursuant to section 3(a) of the Government in the Sunshine Act (Pub. L. 94-409), 5 U.S.C. 552b:

AGENCY HOLDING MEETING: Federal Energy Regulatory Commission.

DATE AND TIME: March 17, 2011; 10 a.m.

PLACE: Room 2C, 888 First Street, NE., Washington, DC 20426

STATUS: Open.

MATTERS TO BE CONSIDERED: Agenda.

* Note —Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

968th—Meeting
Item No. | Docket No. | Company
Administrative
A-1 | AD02-1-000 | Agency Business Matters.
A-2 | AD02-7-000 | Customer Matters, Reliability, Security and Market Operations.
Electric
E-1 | ER03-563-066 | Devon Power LLC.
E-2 | OMITTED. |
E-3 | NP10-18-000 | North American Electric Reliability Corporation.
E-4 | RM09-18-001 | Revision to Electric Reliability Organization Definition of Bulk Electric System.
E-5 | RM11-14-000 | Analysis of Horizontal Market Power under the Federal Power Act.
E-6 | RM10-16-000 | System Restoration Reliability Standards.
E-7 | RM10-10-000 | Planning Resource Adequacy Assessment Reliability Standard.
E-8 | RM10-15-000 | Mandatory Reliability Standards for Interconnection Reliability Operating Limits.
E-9 | RM09-19-000 | Western Electric Coordinating Council Qualified Transfer Path Unscheduled Flow Relief Regional Reliability Standard.
E-10 | RR09-6-003 | North American Electric Reliability Corporation.
E-11 | OMITTED. |
E-12 | ER11-2256-000 | California Independent System Operator Corporation.
E-13 | EL08-47-006 | PJM Interconnection, L.L.C.
E-14 | EL11-12-000 | Idaho Wind Partners 1, LLC.
E-15 | EL10-1-001 | Southern California Edison Company.
E-16 | EL10-84-002 | Californians for Renewable Energy, Inc. v. Pacific Gas and Electric Company, Southern California Edison Company, San Diego Gas & Electric Company and the California Public Utilities Commission.
Gas
G-1 | OMITTED. |
G-2 | RP11-1495-002 | Ozark Gas Transmission, L.L.C.
G-3 | RP10-315-002 | Columbia Gulf Transmission Company.
G-4 | OR07-7-000 | Tesoro Refining and Marketing Company v. Calnev Pipe Line LLC.
| OR07-18-000 | America West Airlines, Inc. and US Airways, Inc., Chevron Products Company, Continental Airlines, Inc., Southwest Airlines Co. and Valero Marketing and Supply Company v. Calnev Pipe Line LLC.
| OR07-19-000 | ConocoPhillips Co. v. Calnev Pipe Line LLC.
| OR07-22-000 | BP West Coast Products, LLC v. Calnev Pipe Line LLC.
| OR09-15-000 | Tesoro Refining and Marketing Company v. Calnev Pipe Line LLC.
| OR09-20-000 | BP West Coast Products, LLC v. Calnev Pipe Line LLC.
Hydro
H-1 | P-2539-061 | Erie Boulevard Hydropower, L.P.
H-2 | P-2195-025 | Portland General Electric Company.
H-3 | P-1390-063 | Southern California Edison Company.
Certificates
C-1 | OMITTED. |
C-2 | CP10-492-000 | Columbia Gas Transmission, LLC.
C-3 | OMITTED. |
C-4 | CP10-22-000 | Magnum Gas Storage, LLC, Magnum Solutions, LLC.
C-5 | CP10-486-000 | Colorado Interstate Gas Company.

Issued: March 10, 2011.
Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-6067 Filed 3-11-11; 11:15 am]

BILLING CODE 6717-01-P